DEPARTMENT OF COMMERCE

National Oceanic and Atmospheric Administration

[I.D. 031703C]

Notice of Availability of the National Coral Reef Action Strategy for Public Comment

AGENCY: National Ocean Service (NOS), National Oceanic and Atmospheric Administration (NOAA), Commerce.

ACTION: Notice; request for public comment.

SUMMARY: The Coral Reef Conservation Act of 2000 requires the Administrator of the National Oceanic and Atmospheric Administration (NOAA) to submit to the Committee on Commerce, Science, and Transportation of the Senate and to the Committee on Resources of the House of Representatives, and publish in the Federal Register, a national coral reef action strategy (Strategy), consistent with the purposes of the Act.

Pursuant to the Act, NOAA has prepared a National Coral Reef Action Strategy, in cooperation with the U.S. Coral Reef Task Force (Task Force), which provides a statement of Goals and Objectives, implementation plans, and a description of federal funding directly related to advancing coral reef conservation each fiscal year. The Strategy is intended to help guide and improve U.S. government and non-government efforts to conserve coral reefs. This notice announces the availability of the National Coral Reef Action Strategy for use in implementing the Coral Reef Conservation Grant Program and public review.

DATES: Comments on the National Coral Reef Action Strategy must be received no later than May 19, 2003.

ADDRESSES: Written comments and public inspection of these comments may be sent to NOAA Coral Reef Conservation Program, 1305 East West Highway, NOS/ORR 10201, Silver Spring, MD 20910; faxed to (301)-713-4389; or emailed to roger.b.griffis@noaa.gov. Copies of the Strategy are available from this address.

FOR FURTHER INFORMATION CONTACT: Roger Griffis; (301)-713-2989 extension 115; roger.b.griffis@noaa.gov.

SUPPLEMENTARY INFORMATION:

Background

The National Coral Reef Action Strategy was produced through extensive consultation with the federal, state, territory and commonwealth members of the Task Force and its Working Groups. The Coral Reef Conservation Act of 2000 states that in developing this Strategy, the Secretary may consult with the Task Force. The Strategy builds on the existing National Action Plan to Conserve Coral Reefs, which was adopted by the Task Force in 2000 as the national blueprint for U.S. action to address the coral reef crisis. The Coral Reef Conservation Act of 2000 also establishes a Coral Reef Conservation Program to provide grants of financial assistance for projects that are consistent with the Strategy.

The Strategy is designed to track accomplishments and identify priorities to implement the goals and objectives of the Coral Reef Conservation Act and the National Action Plan to Conserve Coral Reefs. The Strategy provides partial summaries of accomplishments and needs to address 13 major goals. The intent is to work closely with the Task Force, other partners, and the public to update the Strategy annually or as needed to help guide future actions.

The Task Force was established by Executive Order 13089 in 1998 to help lead and coordinate U.S. government efforts (both domestically and internationally) to conserve and sustain coral reef ecosystems. The Task Force is co-chaired by the Secretary of Commerce and the Secretary of the Interior, and includes the heads of 11 federal agencies and the Governors of 7 states, territories and commonwealths with coral reef management responsibilities.

After the close of the comment period, NOAA will consider the comments received during review and possible revision of the Strategy in the future. The Strategy is available from the web site www.coralreef.noaa.gov or from see ADDRESSES.

Authority: Pub. L 106-562.

Dated: February 26, 2003.
Jamison S. Hawkins,
Acting Assistant Administrator, Ocean Services and Coastal Zone Management.

[FR Doc. 03-6713 Filed 3-19-03; 8:45 am]

BILLING CODE 3510-JE-S